DEPARTMENT OF TRANSPORTATION

Research and Special Programs Administration

Office of Hazardous Materials Safety; Notice of Applications for Exemptions

AGENCY: Research and Special Programs Administration, DOT.

ACTION: List of Applicants for Exemptions.

SUMMARY: In accordance with the procedures governing the application for, and the processing of, exemptions from the Department of Transportation's Hazardous Materials Regulations (49 CFR part 107, subpart B), notice is hereby given that the Office of Hazardous Materials Safety has received the applications described herein. Each mode of transportation for which particular exemption is requested is indicated by a number in the “Nature of Application” portion of the table below as follows: 1—Motor vehicle, 2—Rail freight, 3—Cargo vessel, 4—Cargo aircraft only, 5—Passenger-carrying aircraft.

DATES: Comments must be received on or before June 26, 2003.

ADDRESS COMMENTS TO: Records Center, Research and Special Programs Administration, U.S. Department of Transportation, Washington, DC 20590.

Comments should refer to the application number and be submitted in triplicate. If confirmation of receipt or comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on May 19, 2003.
R. Rayan Posten,
Exemptions Program Officer, Office of Hazardous Materials, Exemptions and Approvals.

New Exemptions
Application No. | Docket No. | Applicant | Regulation(s) affected | Nature of exemption thereof
13229-N |  | Matheson Tri-Gas, East Rutherford, NJ | 49 CFR 173.304(b) | To authorize the transportation in commerce of phosphine, Division 2.3, in DOT Specification seamless cylinders with a service pressure of 4000 psi and a filling density not to exceed 0.45. (modes 1, 3)
13232-N |  | CP Industries, McKeesport, PA | 49 CFR 178.37(k)(2)(i), 178.37(l), 178.45(j)(1), 178.45(k)(2) | To authorize the transportation in commerce of DOT Specification cylinders which have received an alternative tensile test for use transporting compressed gases. (mode 1)
13233-N |  | Fuju Hunt Photographic Chemicals, Inc., Rolling Meadows, IL | 49 CFR 173.24a(c) | To authorize the transportation in commerce of corrosive materials in combination packagings with other hazardous materials without being further packed in another inner receptacle. (modes 1, 2, 3)
13235-N |  | Chart Industries, Ball Ground, GA | 49 CFR 172.203(a), 177.834(h) | To authorize filling and discharging of a DOT Specification 4L cylinder with carbon dioxide, refrigerated liquid without removal from the vehicle. (mode 1)
13237-N |  | Praxair, Inc., Danbury, CT | 49 CFR 173.302, 173.304, 173.304a, 173.338 | To authorize the transportation in commerce of non-DOT specification cylinders that are designed to a foreign specification for use in transporting various hazardous materials. (modes 1, 3)

[FR Doc. 03-13063 Filed 5-23-03; 8:45 am]

BILLING CODE 4910-60-M